DEPARTMENT OF TRANSPORTATION

National Highway Traffic Safety Administration

[Docket No. NHTSA-2002-11847; Notice 3]

Decision That Nonconforming 2000-2001 Audi (8D) A4, S4, and RS4 Passenger Cars, Manufactured From September 1, 1999, Through August 31, 2001, for the European Market, Are Eligible for Importation

AGENCY: National Highway Traffic Safety Administration, DOT.

ACTION: Notice of decision by National Highway Traffic Safety Administration that nonconforming 2000-2001 Audi (8D) A4, S4, and RS4 passenger cars, manufactured from September 1, 1999, through August 31, 2001, for the European market, are eligible for importation.

SUMMARY: This document announces a decision by the National Highway Traffic Safety Administration (NHTSA) that certain 2000-2001 Audi (8D) A4, S4, and RS4 passenger cars, manufactured from September 1, 1999, through August 31, 2001, for the European market, that were not originally manufactured to comply with all applicable Federal motor vehicle safety standards (FMVSS) are eligible for importation into the United States because they are substantially similar to vehicles originally manufactured for importation into and sale in the United States and that were certified by their manufacturer as complying with the safety standards (the U.S. certified version of the 2000-2001 Audi (8D) A4, and S4 passenger cars), and they are capable of being readily altered to conform to the standards.

DATES: This decision was effective March 28, 2003. The agency notified the petitioner at that time that the subject vehicles are eligible for importation. This document provides public notice of the eligibility decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC (JK) of Baltimore, Maryland (Registered Importer 90-006), petitioned NHTSA to decide whether 2000-2001 Audi (8D) A4, S4, and RS4 passenger cars, manufactured from September 1, 1999, through August 31, 2001 for the European market, are eligible for importation into the United States. NHTSA published a notice of the petition on April 4, 2002 (67 FR 16146) and a second notice on September 30, 2002 (67 FR 61378) to afford an opportunity for public comment. The reader is referred to those notices for a thorough description of the petition.

One comment was received in response to the first notice of petition, from Volkswagen of America, Inc. (VW), the U.S. representative of the vehicle's original manufacturer. VW's comment addressed issues it believed J.K. had overlooked in describing alterations necessary to conform 2001 Audi A4 and S4 models to numerous FMVSS as well as to the Bumper Standard. The agency accorded J.K. an opportunity to respond to the issues raised by VW. J.K. responded by revising its petition. In the revised petition, J.K. added 2000 A4 and S4, and 2000-2001 RS4 models to those for which it sought import eligibility. Because this revision expanded the scope of the petition, NHTSA published the second notice. Only one comment was received in response to the second notice of petition, again from VW. VW's comment reiterated comments made in its response to the first notice and addressed issues it believed J.K. had overlooked in regard to the RS4 model. VW also stated that the petition needed to clarify the specific carline platform intended to be covered under the petition. VW's comments, J.K.'s responses, and NHTSA's analysis are set forth below for each of the issues that VW raised.

(1) Vehicle Platform: VW stated that two unique versions of the A4 platform were offered for sale in Europe. The European model year 2000 vehicles were built on the “8D” platform, while the European model year 2001 vehicles were built on the “8E” platform. All 2000 and 2001 model year U.S.-model vehicles were built on the “8D” platform. VW asserted that the 2001 U.S-model and the 2001 European market vehicles are not directly comparable for the purposes of determining modifications needed to achieve conformity with all applicable FMVSS. In its response, J.K. stated that it only intended the petition to cover the “8D” platform.

NHTSA's Analysis: In view of VW's comments and J.K.'s response, the agency concluded that any eligibility decision resulting from the petition should apply to nonconforming European market Audi A4, S4, and RS4 passenger cars manufactured between September 1, 1999 and August 31, 2001 that were built on the “8D” platform. The petition dates chosen are derived from the definition of “model year” in 49 CFR 593.4.

(2) FMVSS No. 102 Transmission Shift Lever Sequence: VW confirmed that the U.S. and the non-U.S.-certified model are identical with regard to conformity with this standard. In addition, VW pointed out that the non-U.S.-certified model is not equipped with a clutch/starter interlock that prevents the engine from being started unless the clutch pedal is depressed. J.K. stated that although it did not believe that the clutch/starter interlock was required by the standard, the company acknowledged that this is an important component that would give an extra margin of safety. J.K. therefore stated that it will add the components to the vehicles that it converts.

NHTSA's Analysis: The standard does not require a clutch/starter interlock on a vehicle equipped with a manual transmission. So long as the vehicle remains in compliance with all applicable FMVSS, NHTSA has no objection to the installation of these components.

(3) FMVSS No. 114 Theft Prevention: The petition stated that the key warning system must be activated by the installation of U.S.-version software to meet the requirements of this standard and that the proper operation of the system must be verified for each vehicle so converted. VW stated that vehicle modification is necessary and that paragraph S4.5 of the standard requires a warning device that is not installed on vehicles manufactured for markets other than the United States.

NHTSA's Analysis: The modifications VW identified as necessary would not prelude the vehicle from being deemed eligible for importation. Conformity packages submitted for vehicles imported under the decision must demonstrate that the vehicle is equipped with a key warning system that conforms to the standard.

(4) FMVSS No. 118 Power-Operated Window Partition, and Roof Panel Systems: The petition stated that the systems in the non-U.S. model are the same as those in the U.S. model. VW stated that the non-U.S. models do not comply with paragraph S4(e) of the standard and are not certified to the requirements of paragraph S5, which provides an exemption from the need to comply under paragraph S4(e). J.K. responded that it had tested the system after the installation of U.S.-model dash/body and OBDII software, which may explain why the systems in the non-U.S. model vehicles conformed to the standards.

NHTSA's Analysis: The modifications VW identified as necessary would not prelude the vehicle from being deemed eligible for importation. Conformity packages submitted for vehicles imported under the decision must demonstrate that the vehicle is equipped with a power-operated window partition and roof panel system that conforms to the standard.

(5) FMVSS No. 135 Passenger Car Brake Systems: The petition stated that the hydraulic brake system and the parking brake system are identical to those in the U.S.-model. VW stated that the brake lining material on non-U.S. model vehicles is different from the lining material installed on vehicles certified as conforming to FMVSS No. 135. J.K. responded that the vehicle it examined had brake pads that bore U.S.-model part numbers, but admitted that some vehicles may not be so equipped. J.K. concluded that all vehicles must be inspected for the presence of U.S.-model brake pads and that U.S.-model pads must be installed on vehicles that are not so equipped.

NHTSA's Analysis: The modifications VW identified as necessary would not prelude the vehicle from being deemed eligible for importation. Conformity packages submitted for vehicles imported under the decision must demonstrate that the vehicle is equipped with a brake system that conforms to the standard.

(6) FMVSS No. 202 Head Restraints: VW confirmed that the U.S. model and the non-U.S. model are identical with regard to conformity with this standard. However, VW pointed out that the non-U.S. model is not equipped with head restraint locking devices that are present in the U.S.-model. J.K. responded that the non-U.S. model vehicles that it examined had head restraint locking devices.

NHTSA's Analysis: The standard does not require head restraint locking devices. The presence or absence of these devices therefore has no bearing on the vehicle's compliance with this standard.

(7) FMVSS No. 206 Door Locks and Door Retention Components: The petition stated that the door locks and retention system components installed on the non-U.S. model are identical to those installed on the U.S.-model. VW stated that non-U.S. model vehicles have a door locking system in which the interior door handle has a single pull release to open the door when the locking system is activated, and that the U.S.-model vehicles have a door locking system that requires a double pull motion. According to VW, the first pull unlocks the door and the second pull opens the door latch. VW further stated that the double pull feature is required to comply with paragraph S4.1.3.2 of the standard. J.K. responded that the vehicle it examined had a door locking system that required two pulls, but acknowledged that some vehicles may not be so equipped. J.K. stated that all vehicles must be inspected for the presence of U.S.-model components and that U.S.-model components must be installed on vehicles no so equipped.

NHTSA's Analysis: The modifications VW identified as necessary would not prelude the vehicle from being deemed eligible for importation. Conformity packages submitted for vehicles imported under decisions must demonstrate that the vehicle is equipped with a door lock system that conforms to the standard.

(8) 49 CFR Part 581 Bumper Standard: The petition stated that the bumpers and bumper mounting structures were identical to those installed on U.S.-model vehicles. VW stated that non-U.S.-model A4 and S4 vehicles have bumper systems that are different from those installed on U.S.-model vehicles. The revised petition stated that the support structure for the bumpers on the non-U.S. vehicles are identical to that of the U.S.-model and that U.S.-model bumper components must be installed in order to meet the requirements of the standard. In response to the revised petition, VW stated that the bumper system on the RS4 model differs from that on the A4 and S4 models. VW also stated that no conforming parts are available for the SR4 model. J.K. responded that it has installed U.S.-model A4 bumper systems on the non-U.S. model RS4 “8D” chassis vehicle, that these systems bolt on directly, and that it will confirm these modifications.

NHTSA's Analysis: The agency notes that Bumper Standard compliance issues are not directly relevant to an import eligibility decision, as such a decision is to be based on the capability of a non-U.S. certified vehicle to be altered to conform to the FMVSS, and the Bumper Standard is not an FMVSS. However, because a vehicle that is not originally manufactured to comply with the Bumper Standard must be modified to comply with the standard before it can be allowed permanently into the United States, conformance with the Bumper Standard must be shown in the conformity package submitted to NHTSA to allow release of the DOT Conformance bond furnished at the time of importation.

Conclusion

Based on the contents of the petition and the resolution of the issues set forth above, NHTSA decided to grant the petition.

Vehicle Eligibility Number for Subject Vehicles

The importer of a vehicle admissible under any final decision must indicate on the form HS-7 accompanying entry the appropriate vehicle eligibility number indicating that the vehicle is eligible for entry. VSP-400 is the vehicle eligibility number assigned to vehicles admissible under this notice of final decision.

Final Decision

Accordingly, on the basis of the foregoing, NHTSA decided that 2000-2001 Audi (8D) A4, S4, and RS4 passenger cars, manufactured from September 1, 1999, through August 31, 2001, for the European Market, that were not originally manufactured to comply with all applicable FMVSS, are substantially similar to 2000-2001 Audi (8D) A4, and S4 passenger cars originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle Safety Compliance.

[FR Doc. E6-3233 Filed 3-7-06; 8:45 am]

BILLING CODE 4910-59-P